DEPARTMENT OF AGRICULTURE

Rural Housing Service

Notice of Funds Availability for the Section 533 Housing Preservation Grants for Fiscal Year 2010

AGENCY: Rural Housing Service, USDA.

ACTION: Notice; Correction.

SUMMARY: The Rural Housing Service published a document in the Federal Register on April 27, 2010, announcing that it is soliciting competitive applications under its Housing Preservation Grant program. The set-aside funding for the Rural Economic Area Partnership Zones was excluded from the notice and the listing for the Rural Development Ohio State Office telephone number, and TDD number and West Virginia State Office address were incorrectly identified in the notice.

FOR FURTHER INFORMATION CONTACT: Bonnie Edwards-Jackson, Finance and Loan Analyst, Multi-Family Housing Preservation and Direct Loan Division, USDA Rural Development, Stop 0781, 1400 Independence Avenue, SW., Washington, DC 20250-0781, telephone (202) 690-0759 (voice) (this is not a toll free number) or (800) 877-8339 (TDD-Federal Information Relay Service) or via e-mail at, Bonnie.Edwards@wdc.usda.gov.

Correction

In the Federal Register of April 27, 2010, in FR Doc. 2010-9648, on page, 22096, in the first column, the listing for the award information should read:

For Fiscal Year 2010, $10,146,815.03 is available for the HPG Program. The total includes $746,815.03 in carryover funds. A set-aside of $74,681.50 has been established for grants located in Rural Economic Area Partnership Zones and other funds will be distributed under a formula allocation to states pursuant to 7 CFR part 1940, subpart L, “Methodology and Formulas for Allocation of Loan and Grant Program Funds.” Decisions on funding will be based on pre-applications.

Correction

In the Federal Register of April 27, 2010, in FR Doc. 2010-9648, on page, 22097, in the second column, the listing for the Rural Development Ohio State Office, telephone number, and TDD number for contact should read: Ohio State Office, Federal Building, Room 507, 200 North High Street, Columbus, OH 43215-2477, (614) 255-2409, TDD (800) 877-8339, Cathy Simmons.

Correction

In the Federal Register of April 27, 2010, in FR Doc. 2010-9648, on page, 22098, in the first column, the listing for the Rural Development West Virginia State Office, address to contact should read: West Virginia State Office, 530 Freedom Road, Ripley, WV 25271-9794, (304) 372-3441, ext. 105, TDD (304) 284-4836, Penny Thaxton.

Dated: May 13, 2010.
Tammye Treviño,
Administrator, Rural Housing Service.

[FR Doc. 2010-12162 Filed 5-20-10; 8:45 am]

BILLING CODE 3410-XV-P